DEPARTMENT OF HOMELAND SECURITY

Federal Emergency Management Agency

[FEMA-1606-DR]

Texas; Amendment No. 9 to Notice of a Major Disaster Declaration

AGENCY: Federal Emergency Management Agency, Department of Homeland Security.

ACTION: Notice.

SUMMARY: This notice amends the notice of a major disaster for the State of Texas (FEMA-1606-DR), dated September 24, 2005, and related determinations.

DATES: Effective Date: August 18, 2006.

FOR FURTHER INFORMATION CONTACT: Magda Ruiz, Recovery Division, Federal Emergency Management Agency, Washington, DC 20472, (202) 646-2705.

SUPPLEMENTARY INFORMATION: Notice is hereby given that, pursuant to Public Law 109-234, FEMA is amending the cost-sharing arrangements concerning Federal funds provided under the authority of the Robert T. Stafford Disaster Relief and Emergency Assistance Act, 42 U.S.C. 5121-5206, for the State of Texas, declared on September 24, 2005, due to damage resulting from Hurricane Rita. As required by Public Law 109-234, the States of Texas and Louisiana, declared major disasters on September 24, 2005, as a result of Hurricane Rita, must be treated equally for purposes of cost-share adjustments. The Texas major disaster declaration is amended as follows:

Federal funds for debris removal and emergency protective measures (Categories A and B), including direct Federal assistance, under the Public Assistance program, are authorized at 100 percent of total eligible costs, through and including June 30, 2006. Effective July 1, 2006, the Federal funding for debris removal and emergency protective measures (Categories A and B), including direct Federal assistance, under the Public Assistance program, is authorized at 90 percent of total eligible costs. Further, Federal funds for all categories of Public Assistance are authorized at 90 percent of total eligible costs, except assistance previously approved at 100 percent.

This adjustment to State and local cost sharing applies only to Public Assistance costs and direct Federal assistance eligible for such adjustments under the law. The Robert T. Stafford Disaster Relief and Emergency Assistance Act specifically prohibits a similar adjustment for funds provided to States for Other Needs Assistance (Section 408) and the Hazard Mitigation Grant Program (Section 404). These funds will continue to be reimbursed at 75 percent of total eligible costs.

This cost share is effective as of the date of the President's major disaster declaration.

(The following Catalog of Federal Domestic Assistance Numbers (CFDA) are to be used for reporting and drawing funds: 97.030, Community Disaster Loans; 97.031, Cora Brown Fund Program; 97.032, Crisis Counseling; 97.033, Disaster Legal Services Program; 97.034, Disaster Unemployment Assistance (DUA); 97.046, Fire Management Assistance; 97.048, Individuals and Households Housing; 97.049, Individuals and Households Disaster Housing Operations; 97.050 Individuals and Households Program-Other Needs, 97.036, Public Assistance Grants; 97.039, Hazard Mitigation Grant Program.)

R. David Paulison,
Under Secretary for Federal Emergency Management and Director of FEMA.

[FR Doc. E6-14082 Filed 8-24-06; 8:45 am]

BILLING CODE 9110-10-P